DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A Novel Small Protein Antibiotic

Description of Technology: Due to the increase in drug resistance among bacteria, continued progress in the development of new antibiotic treatments is needed. Available for licensing and commercial development is the small protein SrgT, its analogs and related peptides. SrgT is a 43 amino acid protein that effectively inhibits bacterial growth. This protein likely exerts its antibiotic action by inhibiting the metabolism of glucose in these microorganisms. The claimed invention includes methods for SrgT synthesis and suggested modifications for production of SrgT analogs and related peptides, which may remain effective against potential SrgT resistant bacteria. Thus, the current technology provides a novel approach to the treatment and prevention of bacterial infections.

Application: Novel therapeutics and prophylactics for bacterial infections.

Development Status: Preclinical data is available at this time.

Inventors: Carin K. Vanderpool and Susan Gottesman (NCI).

Selected Publication: CK Vanderpool, S Gottesman. Involvement of a novel transcriptional activator and small RNA in post-transcriptional regulation of the glucose phosphoenolpyruvate phosphotransferase system. Mol Microbiol. 2004 Nov; 54(4):1076-1089.

Patent Status: U.S. Provisional Application No. 60/799,830 filed 11 May 2006 (HHS Reference No. E-166-2006/0-US-01).

Licensing Status: Available for non-exclusive and exclusive licensing.

Licensing Contact: Cristina Thalhammer-Reyero, Ph.D., M.B.A.; 301/435-4507; thalhamc@mail.nih.gov.

Methods and Compositions for the Production of Highly Effective Vaccines Against Cancers and Infections Diseases

Description of Technology: Because cancers and infectious diseases remain prominent causes of death among adults and children worldwide, the availability of vaccines targeting these conditions is a global health priority. With the current vaccine development state-of-the-art, there are limitless combinations of enhancing molecules that can be used with antigen vaccines targeting these diseases. The technology offered for licensing and commercial development combines effective aspects of antigen-vaccines, including peptides and other forms of vaccination, with enhancing molecules, including co-stimulation of T cell immunity for efficient vaccine development.

The claimed invention includes a non-viral polynucleotide vector encoding immune enhancing molecules, such as the T cell co-stimulatory molecule B7.1 (CD80), which significantly enhance cellular immune responses when combined with antigen stimulation. Delivery of this co-stimulatory molecule as non-replicating DNA with any antigenic form, peptides in this case, overcomes the problems of combining enhancing molecules with the antigen in the same DNA vector, co-infecting or transfecting these molecules in the same antigen presenting or tumor cell, or manufacturing enhancing molecules in the same format as the antigens. Furthermore, the use of this chimeric vaccine with the enhancing molecule expressed as polynucleotide vector overcomes the low antigenicity and safety considerations of viral vectors, as well as the instability and conformational maintenance challenges associated with the use of full-length protein delivery. Furthermore, polynucleotide's constructs encoding enhancing molecules are inexpensive to produce and can potentially be used along with any form of antigen vaccine delivery system, including peptides, full-length proteins and naked DNA antigens.

Applications: (1) Significant enhancement of immunological responses to antigen vaccines; (2) Development of safe and effective vaccines for cancer and various infectious diseases; (3) Cost effective vaccine to test the combination of immune enhancing molecules with any form of antigen vaccine.

Development Status: Preclinical data is available at this time.

Inventors: Samir Khleif and Jay Berzofsky (NCI).

Patent Status: U.S. Patent Application No. 09/810,310 filed 14 Mar 2001 (HHS Reference No. E-128-2000/0-US-02).

Licensing Status: Available for non-exclusive or exclusive licensing.

Licensing Contact: Cristina Thalhammer-Reyero, Ph.D., M.B.A.; 301/435-4507; thalhamc@mail.nih.gov.

Collaborative Research Opportunity: The National Cancer Institute Vaccine Branch is seeking statements of capability or interest from parties interested in collaborative research to further develop, evaluate, or commercialize methods and compositions for the production of highly effective vaccines. Please contact Betty Tong, Ph.D., at 301-594-4263 or tongb@mail.nih.gov for more information.

Dated: August 25, 2006.
Steven M. Ferguson,
Director, Division of Technology Development and Transfer, Office of Technology Transfer, National Institutes of Health.

[FR Doc. 06-7329 Filed 8-30-06; 8:45 am]

BILLING CODE 4140-01-P